DEPARTMENT OF HEALTH AND HUMAN SERVICES

Centers for Disease Control and Prevention

[60Day-00-24]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Seleda Perryman, CDC Assistant Reports Clearance Officer, 1600 Clifton Road, MS-D24, Atlanta, GA 30333. Written comments should be received within 60 days of this notice.

Proposed Project

Developing Communication to Reduce Workplace Violence and Assault Against Taxicab Drivers—New—The mission of the National Institute for Occupational Safety and Health (NIOSH) is to promote “safety and health at work for all people through research and prevention.” In order to carry out this goal effectively and efficiently, NIOSH and the occupational safety and health community implemented the National Occupational Research Agenda (NORA) in 1996. NORA is the first step in an ongoing, synergistic effort by the various institutions of the occupational safety and health community to identify and research the most important workplace safety and health issues. In order to accomplish the NORA objectives in preventing violence and assault in the workplace, NIOSH is conducting health communication research to determine the most effective means of promoting preventive behavior among taxicab drivers, a high risk occupational group. This research is based upon the following NIOSH publications: “Alert: Preventing Homicide in the Workplace” (NIOSH, 1993) and “Violence in the Workplace—Risk Factors and Prevention Strategies” (NIOSH, 1996).

Workplace violence is a significant cause of injury and death in the workplace. It was the second leading cause of death in 1997, accounting for approximately 18% of worker fatalities during that year (BLS, 1998). Approximately 85% of occupational homicides involved robberies, and approximately four-fifths of the homicides were the result of shootings. An increased risk of workplace homicide was clustered within certain occupational areas including sales occupations, protective service occupations, and taxicab drivers. Furthermore, 60% of occupational fatalities within taxicab drivers were due to homicide (BLS, 1998). Although these statistics are significant, a limited amount of information is known concerning the level of worker awareness about the risk of workplace violence. In addition, little is known about the level of worker self-efficacy in regard to recommended preventive measures or the current status of the prevention strategies utilized by both the worker and employer. Therefore, the goal of this study is to identify those communication variables that are most effective in increasing the following in regard to workplace violence prevention: worker awareness, comprehension, and use of recommendations in the workplace.

To achieve this goal, this project will assess the combined effect of message framing (gain or loss) and highly involving messages on the elaboration likelihood of the receiver, and the subsequent attention, intention, and behavior change that result (Maheswaran & Levy, 1990; Smith & Petty, 1996). A study will be conducted in which message framing (gain, loss), issue involvement (high, low), and argument quality (strong, stronger) are varied. First, three phases of Message Pretesting will be done (N = 175) to determine the appropriate version of these communication variables to be used in the studies: (1) Selecting appropriate written versions of communication variables; (2) test several formats of the brochure to determine the most effective graphics, design, and presentation; and (3) pretest the combination of the print and visual variables for clarity and manipulation accuracy. Second, a Pilot Study will be conducted with a sample of taxicab drivers (N > > 300). The Pilot Study will be a small scale study in which participants are randomly assigned to the conditions of a 2 (message framing: gain, loss) ′ 2 (issue involvement: high, low) ′ 2 (argument quality: strong, stronger) factorial design. The effect of each variable on elaboration, attitude, and intentions will be determined through pre- and post-surveys. The knowledge obtained in this Pilot Test will be used to improve the version of the brochure to be used in the main Study. The Study will be conducted with taxicab drivers (N > > 1,500 total) in a major US city. The goal of the Study will be to determine the effect of message framing, issue involvement, and argument quality on the participant's level of elaboration, attitude, and intentions. In addition, a follow-up survey at 1, 3, and 6 months will assess any corresponding behavior change over time.

These combined studies will assess the use of message framing and issue involvement in applied health communication research. Specifically, the studies will assess the effectiveness of incorporating message framing into health interventions and the importance of promoting issue involvement through occupation-specific messages. At an average wage of $10.00/hour, the total cost to respondents is $22,800.

Respondents | Phase | Number of respondents | Number of responses/respondent | Avg. burden per response (in hrs.) | Total burden (in hrs.)
Taxicab drivers | Pretesting Phase I | 60 | 1 | 1 | 60
Taxicab drivers | Pretesting Phase II | 60 |  |  | 60
Taxicab drivers | Pretesting Phase III | 15 | 1 | 2 | 30
Taxicab drivers | Pilot Test | 300 | 1 | .5 | 150
Taxicab drivers | Study | 1,500 | 4 | .33 | 1,980
Total |  |  |  |  | 2,280

Dated: February 4, 2000.
Charles W. Gollmar,
Acting Associate Director for Policy, Planning and Evaluation, Centers for Disease Control and Prevention (CDC).

[FR Doc. 00-3061 Filed 2-9-00; 8:45 am]

BILLING CODE 4163-18-P